DEPARTMENT OF DEFENSE

Office of the Secretary

[Docket ID: DoD-2014-OS-0112]

Proposed Collection; Comment Request

AGENCY: Defense Logistics Agency, DoD.

ACTION: Notice.

SUMMARY: In compliance with the Paperwork Reduction Act of 1995, the Defense Logistics Agency announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by September 15, 2014.

ADDRESSES: You may submit comments, identified by docket number and title, by any of the following methods:

• Federal eRulemaking Portal: http://www.regulations.gov. Follow the instructions for submitting comments.

• Mail: Federal Docket Management System Office, 4800 Mark Center Drive, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information. Any associated form(s) for this collection may be located within this same electronic docket and downloaded for review/testing. Follow the instructions at http://www.regulations.gov for submitting comments. Please submit comments on any given form identified by docket number, form number, and title.

FOR FURTHER INFORMATION CONTACT: To request more information on this proposed information collection or to obtain a copy of the proposal and associated collection instruments, please write to the DLA Logistics Information Service, ATTN: Mr. Robert A Burrow, DLIS-LAE, 74 Washington Ave. N., Suite 7, Battle Creek, MI 49037-3084, or call Mr. Robert A. Burrow at (269) 961-4410.

SUPPLEMENTARY INFORMATION:

Title; Associated Form; and Omb Number: Department of Defense Electronic Mall Web site; OMB Control Number 0704-XXXX.

Needs and Uses: Each user of the DoD EMALL Web site must complete registration information in order to receive DoD EMALL access. Only authorized personnel of Federal, State, and Local government are bale to register and log into the DoD EMALL Web site to shop, search, order, and make purchases.

Affected Public: Not-for-profit institutions; State, local, or Tribal governments.

Annual Burden Hours: 8,344.75.

Number of Respondents: 33,379.

Responses per Respondent: 1.

Average Burden per Response: 15 minutes.

Frequency: On occasion.

DoD EMALL is an Internet-based Electronic Mall, which allows customers to search for and order items from the government and commercial sources. DoD EMALL is a Department of Defense program operated by the Defense Logistics Information Service (DLIS). All users are required to register and be authenticated and authorized by a DLIS Access Administrator.

Dated: July 14, 2014.
Aaron Siegel,
Alternate OSD Federal Register Liaison Officer, Department of Defense.

[FR Doc. 2014-16845 Filed 7-16-14; 8:45 am]

BILLING CODE 5001-06-P